DEPARTMENT OF ENERGY

Federal Energy Regulatory Commission

[Docket No. CP01-5-000]

Algonquin Gas Transmission Company; Notice of Application

October 20, 2000.

Take notice that on October 10, 2000, Algonquin Gas Transmission Company (Algonquin), 5400 Westheimer Court, P.O. Box 1642, Houston, Texas 77251-1642, filed in Docket No. CP01-5-000 an application pursuant to the provisions of section 7 of the Natural Gas Act for a certificate of public convenience and necessity to construct and operate pipeline facilities for the transportation of natural gas, to establish initial incremental rates for service, and to authorize the leasing of capacity on the proposed facilities and on Algonquin's existing system all as more fully set forth in the application which is on file with the Commission and open to public inspection. This filing may be viewed on the web at http://www.ferc.fed.us/online/rims.htm (call 202-208-2222 for assistance).

Specifically, Algonquin seeks to construct and operate: (1) Approximately 29.4 miles of 24-inch pipeline from an interconnection near Beverly, Massachusetts with the proposed facilities of Maritime & Northeast Pipeline L.L.C. to an interconnection with Algonquin's existing I-9 lateral in Weymouth, Massachusetts; ¹ (2) a 5.4 mile 16-inch lateral from milepost 16.3 of the 29.4-mile proposed pipeline to the wastewater treatment plant owned by the Massachusetts Water Resources Authority (MWRA) on Deer Island (Deer Island Lateral); (3) a meter station on the Deer Island Lateral; and (4) other appurtenant facilities. Algonquin states that the proposed facilities will be capable of delivering approximately 230,500 dekatherms (Dth) per day on a year-round basis at an estimated cost of $159 million. Algonquin proposes to place the facilities in service on November 1, 2002.

¹ From Beverly, the proposed pipeline will proceed offshore through Beverly Harbor, Salem Sound, Massachusetts Bay, Boston Harbor, Quincy Bay, and Hingham Bay. The last 0.5 mile of pipeline will proceed onshore to the interconnection with the existing Algonquin facilities.

Algonquin has executed: (1) Precedent agreements with Sithe Power Marketing L.P. (Sithe, 140,000 Dth per day), Southern Energy Kendall L.L.C. (35,000 Dth per day), Southern Connecticut Gas Company (20,000 Dth per day), and Providence Gas Company (500 Dth per day); a letter of a agreement with MWRA (25,000 Dth per day); and a lease agreement with Texas Eastern Transmission Corporation (80,000 Dth per day). The firm service under these various agreements totals 300,500 Dth per day. Of this total, 220,500 Dth per day will transported through the proposed facilities.² Algonquin will render this firm transportation service subject to its existing Rate Schedule AFT-1. In addition to the currently effective rates under Rate Schedule AFR-1, Algonquin proposes to establish an incremental reservation surcharge of $1.8607 per Dth for those agreements that specify primary firm delivery points and/or primary firm receipt points between (and including) Beverly and Weymouth. The surcharge is based on the cost of the facilities (exclusive of the Deer Island Lateral) plus the cost of the Fore River lateral facilities approved in Docket No. CP00-34-000. In addition, Algonquin proposes to establish an initial incremental recourse rate for service on the Deer Island Lateral of $10.4366 per Dth that is based solely on the cost of the Deer Island Lateral.

² Algonquin's existing agreement with Sithe under Rate Schedule AFT-CL for 70,000 Dth per day of firm service that was approved in Docket No. CP00-34-000 will be converted to an agreement under Rate Schedule AFT-1 for service in this proceeding. The path of this service will be from the interconnection of Algonquin's I and Q system's to Sithe's Fore River generating station in Weymouth.

Algonquin seeks authorization to lease 80,000 Dth per day of capacity from Beverly to the existing interconnection between Algonquin and Texas Eastern in Lambertville, New Jersey for a term of 20 years. The fixed monthly lease payment under the Lease Agreement is $559,360. In addition, Texas Eastern will pay a volumetric charge equal to the maximum commodity charge applicable to Rate Schedule AFT-1 per dekatherm delivered at Lambertville. Algonquin states that the monthly lease payment is less than maximum recourse rate and thus meets Commission standards for lease payments.

Algonquin states that the revenues from the proposed incremental charges will allow the construction of the proposed facilities without any subsidization from existing customers, therefore satisfying the Certificate Policy Statement's (Policy Statement) threshold requirement.³ Algonquin avers that it has made significant efforts to minimize any adverse impacts in accordance with the Policy Statement. Further, Algonquin asserts that its proposal provides significant benefits to its firm shippers and to the public, including: providing service to new electric generation customers and local distribution company shippers that have executed service agreements with Algonquin; providing direct access to a new source of supply for markets behind the Algonquin and Texas Eastern systems; lowering natural gas costs by providing upstream pipeline alternatives; increasing the reliability of the electric generation and transmission grid; and advancing clean air objectives.

³ See, 88 FERC ¶ 61,227 (1999), clarification 90 FERC ¶ 61,128 (2000), further clarification 92 FERC ¶ 61,094 (2000).

Any questions regarding the application should be directed to Steven E. Tillman, Director of Regulatory Affairs, Algonquin Gas Transmission Company, P.O. Box 1642, Houston, Texas 77251-1642 at 713-627-5113.

Any person desiring to be heard or to make any protest with reference to said application should on or before November 13, 2000, file with the Federal Energy Regulatory Commission, 888 First Street NE., Washington, DC 20426, a motion to intervene or protest in accordance with the requirements of the Commission's Rules of Practice and Procedure (18 CFR 385.211 and 385.214) and the regulations under the NGA (18 CFR 157.10). All protests filed with the Commission will be considered by it in determining the appropriate action to be taken but will not serve to make the protestants parties to the proceeding. Any person wishing to become a party in any proceeding must file a motion to intervene in accordance with the Commission's rules. Beginning November 1, 2000, comments and protests may be filed electronically via the internet in lieu of paper. See, 18 CFR 385.2001(a)(1)(iii) and the instructions of the Commission's web site at http://www.ferc.fed.us/efi/doorbell.htm.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered. A person, instead, may submit an original and two copies of such comments to the Secretary of the Commission. Commenters will be placed on the Commission's environmental mailing list, will receive copies of environmental documents, and will be able to participate in meetings associated with the Commission's environmental review process. Commenters will not be required to serve copies of filed documents on all other parties. However, commenters will not receive copies of all documents filed by other parties or issued by the Commission, and will not have the right to seek rehearing or appeal the Commission's final order to a Federal court.

The Commission will consider all comments and concerns equally, whether filed by commenters or those requesting intervenor status.

Take further notice that, pursuant to the authority contained in and subject to the jurisdiction conferred upon the Commission by sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure for, unless otherwise advised, it will be unnecessary for Algonquin to appear or to be represented at the hearing.

David P. Boergers,
Secretary.

[FR Doc. 00-27486 Filed 10-25-00; 8:45 am]

BILLING CODE 6717-01-M